DEPARTMENT OF TRANSPORTATION

Coast Guard

[USCG 2000-7741]

Towing Safety Advisory Committee

AGENCY: Coast Guard, DOT.

ACTION: Notice of meetings.

SUMMARY: The Towing Safety Advisory Committee (TSAC) and its working groups will meet to discuss various issues relating to shallow-draft inland and coastal waterway navigation and towing safety. All meetings will be open to the public.

DATES: TSAC will meet on Thursday, September 14, 2000 from 8 a.m. to 12:30 p.m. The working groups will meet on Wednesday, September 13, 2000, from 9 a.m. to 3:30 p.m. These meetings may close early if all business is finished. Written material and requests to make oral presentations should reach the Coast Guard on or before September 4, 2000. Requests to have a copy of your material distributed to each member of the committee or working groups should reach the Coast Guard on or before August 24, 2000.

ADDRESSES: TSAC will meet in the Jackson-Johnson rooms at the Holiday Inn, Mount Moriah; Memphis, TN. The working groups will begin meeting in the same rooms and may move to separate spaces designated at that time.

Send written material and requests to make oral presentations to Mr. Gerald P. Miante, Commandant (G-MSO-1), Room 1210, U.S. Coast Guard Headquarters, 2100 Second Street SW., Washington, DC 20593-0001. This notice is available on the Internet at http://dms.dot.gov.

FOR FURTHER INFORMATION CONTACT: Mr. Gerald P. Miante, Assistant Executive Director, TSAC, telephone 202-267-0229, fax 202-267-4570, or e-mail at: gmiante@comdt.uscg.mil.

SUPPLEMENTARY INFORMATION: Notice of these meetings is given under the Federal Advisory Committee Act, 5 U.S.C. App. 2.

Agenda of Meeting

The agenda tentatively includes the following:

(1) Report of the Voyage Planning Work Group.

(2) Report of the Electronic Charting Work Group.

(3) Report from the Tug Assistance and Remote Anchor Release Work Group.

(4) Report of the Communications Work Group.

(5) Report of the Casualty Analysis Work Group.

(6) Report of the Licensing Implementation Work Group.

(7) Project update on Cargo Securing Practices.

(8) Project update on the Interim Rule “Licensing and Manning for Officers of Towing Vessels.”

(9) Project update concerning Current Initiatives Regarding Crew Alertness.

(10) Project update on the Automated Information System (AIS).

(11) Project update on the International Maritime Information Safety System (IMISS).

(12) Presentation by the Gulf Coast Mariners Association on a booklet entitled “Mariners Speak Out.”

(13) Presentation by the Coast Guard of policy on the Clarification of the 12-hour Work Rule.

(14) Discussion on any task statements presented.

Procedural

All meetings are open to the public. Please note that the meetings may close early if all business is finished. At the Chair's discretion, members of the public may make oral presentations during the meetings. If you would like to make an oral presentation at a meeting, please notify the Assistant Executive Director no later than September 4, 2000. Written material for distribution at a meeting should reach the Coast Guard no later than August 21, 2000. If you would like a copy of your material distributed to each member of the committee or working groups in advance of a meeting, please submit 25 copies to the Assistant Executive Director no later than August 21, 2000.

Information on Services for Individuals With Disabilities

For information on facilities or services for individuals with disabilities or to request special assistance at the meetings, contact the Assistant Executive Director as soon as possible.

Dated: August 3, 2000.
P. A. Richardson,
Acting Director of Standards.

[FR Doc. 00-20450 Filed 8-10-00; 8:45 am]

BILLING CODE 4910-15-U